DEPARTMENT OF COMMERCE

National Oceanic and Atmospheric Administration

50 CFR Part 648

[Docket No. 251208-0181; RTID 0648-XF413]

Fisheries of the Northeastern United States; 2026 Atlantic Herring Fishery Specifications

AGENCY: National Marine Fisheries Service (NMFS), National Oceanic and Atmospheric Administration (NOAA), Commerce.

ACTION: Temporary rule; inseason.

SUMMARY: NMFS is finalizing the 2026 Atlantic herring specifications and river herring and shad catch caps for the Atlantic herring fishery. This action is necessary to implement previously projected 2026 Atlantic herring specifications, including the river herring and shad catch caps. This action is intended to achieve the objectives of the Atlantic Herring Fishery Management Plan, including preventing overfishing, helping rebuild an overfished stock, and achieving optimum yield on a continuing basis.

DATES: The 2026 specifications for the Atlantic herring fishery are effective from January 1 through December 31, 2026.

FOR FURTHER INFORMATION CONTACT: Carrie Nordeen, Fishery Policy Analyst, 978-281-9272.

SUPPLEMENTARY INFORMATION: NMFS and the New England Fishery Management Council (Council) manage the Atlantic herring fishery pursuant to the Atlantic Herring Fishery Management Plan. Regulations at 50 CFR 648.200 require the Council to recommend herring specifications for NMFS's approval and provide the Council with the discretion to recommend river herring and shad catch caps as part of the specifications. Prior to the start of 2026, the Council recommended herring specifications and river herring and shad catch caps for 2026. On December 11, 2025, NMFS published a final rule (90 FR 57376) setting the Council-recommended 2025 herring specifications and projecting the 2026-2027 herring specifications.

At the end of each fishing year, NMFS evaluates catch information to determine if there were catch overages or unharvested catch compared to the annual catch limit (ACL) or the sub-ACLs for the herring management areas. If catch exceeds a sub-ACL or the ACL, regulations at § 648.201(a)(3) may require a sub-ACL or ACL deduction in a subsequent year. Additionally, regulations at § 648.201(g)(2) prohibit the carryover of unharvested catch to 2026.

NMFS reviewed 2024 fishery information against the projected 2026 herring specifications. There were no catch overages, nor is there any new biological information that would require altering the projected 2026 specifications published in December 2025. Based on this information, NMFS is finalizing the 2026 herring specifications, including the river herring and shad catch caps, as projected in the December 2025 final rule and outlined below in tables 1 and 2. These 2026 herring fishery specifications are expected to prevent overfishing, help rebuild an overfished stock, and achieve optimum yield on a continuing basis. NMFS will provide notice of the final 2027 herring fishery specifications, and any necessary adjustments, prior to the start of 2027.

Table 1—2026 Atlantic Herring Specifications
Specifications | Amount in metric tons (mt)
Overfishing Limit | 23,491
Acceptable Biological Catch | 13,165
Management Uncertainty | 4,031
Annual Catch Limit/Optimum Yield | 9,134
Domestic Annual Harvest | 9,134
Border Transfer | 0
Domestic Annual Processing | 9,134
US At-Sea Processing | 0
Area 1A Sub-ACL (28.9%) | 2,640
Area 1B Sub-ACL (4.3%) | 393
Area 2 Sub-ACL (27.8%) | 2,539
Area 3 Sub-ACL (39%) | 3,562
Fixed Gear Set-Aside | 30
Research Set-Aside | 0%
If New Brunswick weir landings are less than 2,600 mt through October 1, then 1,000 mt will be subtracted from the management uncertainty and reallocated to the Area 1A sub-ACL and the ACL.

Table 2—2026 River Herring and Shad Catch Caps
Catch cap | Amount in metric tons (mt)
Gulf of Maine Midwater Trawl | 76.7
Cape Cod Midwater Trawl | 32.4
Southern New England Midwater Trawl | 129.6
Southern New England Bottom Trawl | 122.3

Classification

NMFS issues this action pursuant to section 305(d) of the Magnuson-Stevens Act. This action is required by 50 CFR part 648, which was issued pursuant to section 304(b), and is exempt from review under Executive Order 12866.

The Assistant Administrator for Fisheries, NOAA, finds good cause under 5 U.S.C. 553(b)(B) to waive prior notice and the opportunity for public comment on this notice because it would be unnecessary and contrary to the public interest. The proposed rule for the 2025-2027 herring specifications (90 FR 26955; June 25, 2025), pursuant to the process described in the herring regulations (§ 648.200), provided the public with the opportunity to comment on the specifications, including the projected 2026 specifications and river herring and shad catch caps. None of the comments on the proposed 2025-2027 herring specifications resulted in any substantive changes in the final rule setting the 2025 specifications and projecting the 2026-2027 specifications. This action simply finalizes the projected 2026 specifications, as described in both the proposed and final rules, without changes as the proposed and final rules for the 2025-2027 herring specifications provided a full opportunity for the public to comment on the projected 2026 specifications and the substance and process of this action. Additionally, the 2026 ACL (9,134 mt) is 64 percent higher than the current, adjusted 2025 ACL (5,556 mt), providing additional economic opportunity for the vessels participating in the herring fishery. If implementation of this action is delayed beyond the start of the fishing year on January 1, 2026, to solicit public comment, it may result in a negative economic impact on the herring fishing industry. Based on these considerations, NMFS further finds, pursuant to 5 U.S.C 553(d)(3), good cause to waive the 30-day delayed effectiveness period for the reasons stated above.

Authority: 16 U.S.C. 1801 et seq.

Dated: December 19, 2025.
Kelly Denit,
Director, Office of Sustainable Fisheries, National Marine Fisheries Service.

[FR Doc. 2025-23796 Filed 12-22-25; 8:45 am]

BILLING CODE 3510-22-P